DEPARTMENT OF HEALTH AND HUMAN SERVICES

Administration for Children and Families

Request for Applications Under the Office of Community Services' Fiscal Year 2002; Job Opportunities for Low-Income Individuals (JOLI) Program; Correction and Clarification; Program Announcement No. OCS-2002-06

AGENCY: Office of Community Services, ACF, DHHS.

ACTION: Clarification and correction.

SUMMARY: This document clarifies and corrects the notice that was published in the Federal Register on Thursday, February 21, 2002, Part II (67 FR 8074). It clarifies the notice by explaining that Faith-Based organizations are eligible to apply, and corrects the notice by changing the due date of applications.

FOR FURTHER INFORMATION CONTACT: Aleatha E. Slade at (202) 401-5317, Thelma M. Woodland at (202) 401-5294, or the OCS Operation Center at 1-800-281-9519 for referral to the appropriate contact person in OCS for programmatic questions or send an e-mail to OCS@lcgnet.com.

Clarification

In the Federal Register issue of February 21, 2002 (67 FR 8074), page 8075, third column, Program Objectives and Requirement, Section “A. Eligible Applicants”, after the end of the first paragraph, “* * * of such Code.”, add the following:

Faith-Based organizations that are exempt from taxation under 501(1) of the Internal Revenue Code of 1986 by reason of paragraph (3) or (4) of section 501(c) of such Code are also eligible to apply for funds under this program announcement.

Correction

In the Federal Register issue of February 21, 2002 (67 FR 8074), on page 8074, first column, under “Dates,” end of first sentence that reads, “before April 22, 2002.”, please correct to read: “before May 22, 2002. In view of the above clarification of Faith-Based organizations, the deadline is being extended an additional thirty (30) days through May 22, 2002.”

Dated: April 1, 2002.
Clarence Carter,
Director, Office of Community Services.

[FR Doc. 02-8541 Filed 4-8-02; 8:45 am]

BILLING CODE 4184-01-M